DEPARTMENT OF JUSTICE

Notice of Lodging of Consent Decree

Notice is hereby given that on November 28, 2007, a proposed Consent Decree was lodged with the United States District Court for the Southern District of Florida in the case United States v. Losada, et al., No. 07-10027 (S.D. Fla.)

The United States of America (“United States”), on behalf the National Oceanic and Atmospheric Administration of the Department of Commerce, filed a complaint against defendants Losada and the vessel “Androw” under the National Marine Sanctuaries Act (“NMSA”), 16 U.S.C. 1431, et seq., seeking damages and response costs for Defendants' destruction of natural resources in the Florida Keys National Marine Sanctuary (the “Sanctuary”).

Under the proposed Consent Decree, Losada will pay $5,000, and agrees not to operate a vessel or fish within the Sanctuary for a period of five years. The settlement amount is based the defendant's ability to pay. In exchange for the payment, the plaintiff covenants not to sue the defendants for damages and response costs under NMSA with respect to the site of the grounding.

The Department of Justice will receive for a period of thirty (30) days from the date of this publication comments relating the proposed Consent Decrees. Comments should be addressed to the Assistant Attorney General, Environment and Natural Resources Division, and either e-mailed to pubcomment-ees.enrd@usdoj.gov or mailed to P.O. Box 7611, U.S. Department of justice, Washington, DC 20044-7611, and should refer to: United States v. Losada, et al., No. 07-10027 (S.D. Fla.), referencing DOJ case number 90-5-1-1-09107.

The proposed Consent Decree may be examined at the Office of the United States Attorney for the Southern District of Florida, 99 N.E. 4th Street, Miami, Florida. During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check payable to the “U.S. Treasury” or, if by e-mail or fax, forward a check in that amount to the Consent Decree Library at the stated address, in the amount of $2.75 (25 cents per page reproduction cost).

Henry S. Friedman,
Assistant Section Chief, Environmental Enforcement Section, Environment and Natural Resources Division.

[FR Doc. 07-5937 Filed 12-4-07; 8:45 am]

BILLING CODE 4410-15-M